DEPARTMENT OF JUSTICE

Antitrust Division

[Civil Action No. 95-1221 (CRR)]

United States District Court for the District of Columbia, United States of America, Plaintiff, vs. American Bar Association, Defendant

Take notice that The United States of America and the American Bar Association (“ABA”) have filed a joint motion for an order modifying the final judgment entered by the United States District Court for the District of Columbia on June 25, 1996 (“Final Judgment”). The parties have agreed to modify the Final Judgment to reflect changes in the law school accreditation process necessitated by regulations promulgated by the Department of Education (“DOE”) pursuant to the Higher Education Act, 20 U.S.C. 1099(b) (1998). Prior to the entry of the order modifying the Final Judgment, the Court and the parties will consider public comments. Any such comments on the proposed modification described in this Notice must be filed within 60 days following the date of this Notice. The Complaint, Final Judgment and proposed modification are further described below.

The Complaint, filed on June 27, 1995, alleged that the ABA had violated Section 1 of the Sherman Act in its law school accreditation activities. The Complaint alleged that the ABA had restrained competition among professional personnel at ABA-approved law schools by fixing their salaries and other compensation levels and working conditions, and by limiting competition from non-ABA-Approved schools. The ABA and United States agreed to a settlement, and on June 25, 1996, the Court entered the Final Judgment, enjoining the ABA from fixing compensation and from enforcing a boycott of non-ABA approved schools. Moreover, because the Complaint alleged that the ABA had allowed the accreditation process to be misused by law school personnel with a direct economic interest in its outcome, the Final Judgment ordered the BA to take a number of steps to limit the influence of law school personnel in the accreditation process, including having the ABA's House of Delegates review and approve certain aspects of the accreditation process.

After the Final Judgment was entered, DOE determined that allowing the House of Delegates to act as the final decision-maker for accreditation activities did not conform to provisions of the Higher Education Act and DOE regulations. Consequently, the ABA, in order to retain its status as a DOE-recognized accreditation agency, has modified the House's role, and the parties to the Final Judgment have agreed that the Court should make appropriate modifications to the Final Judgment so that it conforms to the DOE requirements.

Under the joint proposal, Sections IV(A) and VIII(D) of the Final Judgment will be modified and a new Section IV(M) will be added. As modified, the Judgment will be consistent with DOE's rules which prevent the House of Delegates from being the final decision-maker in establishing the standards, interpretations, and rules used to evaluate law schools or in determining whether a school receives or maintains its accreditation. Consistent with DOE requirements, the House of Delegates will maintain a role in reviewing standards, interpretations, and rules and in reviewing accreditation decisions and can remand such actions to the Council of the ABA's Section on Legal Education and Admissions to the Bar, the DOE-recognized accrediting agency.

The United States has filed with the Court a memorandum setting forth its position with respect to modifying the Final Judgment. Copies of the Complaint, the Final Judgment, the Modification to the Final Judgment, the Stipulation containing the parties' tentative consent, the Joint Motion, the United States' memorandum and all other papers filed in connection with this motion are available for inspection at the Office of the Clerk of the United States District Court for the District of Columbia, 333 Constitution Avenue, NW, Washington, DC 20001, and at Suite 215, Antitrust Division, Department of Justice, 325 Seventh Street, NW, Washington, DC 20530, (Telephone: (202) 514-2481).

Interested persons may submit comments regarding this matter within sixty (60) days of the date of this notice. Such comments, and responses thereto, will be filed with the Court. Comments should be directed to Nancy M. Goodman, Chief, Computers and Finance Section, Room 9500, 600 E Street, NW, Antitrust Division, Department of Justice, Washington, DC 20530, (telephone: (202) 307-6122)

M.J. Moltenbrey,
Director of Civil Non-Merger Enforcement.

[FR Doc. 00-10231 Filed 4-24-00; 8:45 am]

BILLING CODE 4410-11-M